DEPARTMENT OF COMMERCE

National Oceanic and Atmospheric Administration

[I.D. 121506B]

Endangered Species; File No. 1420-01

AGENCY: National Marine Fisheries Service (NMFS), National Oceanic and Atmospheric Administration (NOAA), Commerce.

ACTION: Notice; issuance of permit.

SUMMARY: Notice is hereby given that Dr. Doug Peterson (Permit Holder and Principal Investigator), Warnell School of Forest Resources (Fisheries Division), University of Georgia, Athens, GA 30602 (File No. 1420-01) has been issued a modified permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 263 13th Avenue South, St. Petersburg, FL 33701; phone (727)824-5312; fax (727)824-5309.

FOR FURTHER INFORMATION CONTACT: Malcolm Mohead or Brandy Hutnak, (301)713-2289.

SUPPLEMENTARY INFORMATION: On November 10, 2005, notice was published in the Federal Register (70 FR 68398) that a request for a scientific research permit to take shortnose sturgeon had been submitted by Dr. Doug Peterson. The requested permit has been issued under the authority of the Endangered Species Act of 1973, as amended (ESA; 16 U.S.C. 1531 et seq.) and the regulations governing the taking, importing, and exporting of endangered and threatened species (50 CFR parts 222-226).

Dr. Peterson is authorized to conduct a study of shortnose sturgeon in the Altamaha River, Georgia, to collect information on the status of the population of shortnose sturgeon in the Altamaha River and Estuary. The goals and methods employed in the modification will be consistent with the original permit and provide critical data on stock status, life history, and survival rates as well as to identify specific habitat requirements of the various life stages of shortnose sturgeon in the Altamaha River.

In his initial application, Dr. Peterson's request for an annual take of 200 adults and juvenile shortnose sturgeon was based on previous studies that suggested the Altamaha River population contained less than 1,000 total individuals. After 2 years of study, Dr. Peterson made two revised estimates supporting 5,000 and 6,320 individuals respectively in the Altamaha River. Therefore, to obtain a more meaningful population estimate with a reasonable confidence interval, Dr. Peterson is authorized to increase the number of shortnose to be marked and released annually to 1,000, an increase of 800 sturgeon. Additionally, 12 adult shortnose sturgeon annually (from the 1000 per year above) are permitted in the take for sex ratio determination by laparoscopic methods and for performing blood work. The remaining adult and juvenile fish (up to 30 total) scheduled to receive an internal radio-sonic tracking transmitter, are also authorized to be examined laparoscopically for sex ratio verification. Lastly, the annual incidental lethal take of adult or juvenile sturgeon is increased from 0 to 2 animals.

Issuance of this permit, as required by the ESA, was based on a finding that such permit (1) was applied for in good faith, (2) will not operate to the disadvantage of the endangered species which is the subject of this permit, and (3) is consistent with the purposes and policies set forth in section 2 of the ESA.

Dated: December 18, 2006.
P. Michael Payne,
Chief, Permits, Conservation and Education Division, Office of Protected Resources, National Marine Fisheries Service.

[FR Doc. E6-21861 Filed 12-21-06; 8:45 am]

BILLING CODE 3510-22-S